DEPARTMENT OF COMMERCE

International Trade Administration

[A-570-970]

Multilayered Wood Flooring From the People's Republic of China: Notice of Court Decision Not in Harmony With Final Results of the Third Administrative Review and Notice of Amended Final Results of the Third Administrative Review Pursuant to Court Decision

AGENCY: Enforcement and Compliance, International Trade Administration, Department of Commerce.

SUMMARY: On March 3, 2021, the United States Court of International Trade (CIT) issued its final judgment sustaining the Department of Commerce's (Commerce) corrected final results of remand redetermination pursuant to court order. Commerce is notifying the public that the final judgment in this case is not in harmony with Commerce's final results in the third administrative review of the antidumping duty (AD) order on multilayered wood flooring (MLWF) from the People's Republic of China (China), covering the period of review from December 1, 2013, through November 30, 2014, and that Commerce is amending its calculation of the rate applicable to separate rate respondents.

DATES: March 13, 2021.

FOR FURTHER INFORMATION CONTACT: Aleksandras Nakutis, AD/CVD Operations, Office IV, Enforcement and Compliance, International Trade Administration, U.S. Department of Commerce, 1401 Constitution Avenue NW, Washington, DC 20230; telephone: (202) 482-3147.

SUPPLEMENTARY INFORMATION:

Background

Commerce individually examined Fine Furniture (Shanghai) Limited (Fine Furniture) and the collapsed entity Dalian Penghong Floor Products Co., Ltd./Dalian Shumaike Floor Manufacturing Co., Ltd. (collectively, Dalian Penghong) as mandatory respondents in the third administrative review of the AD order on MLWF from China,¹ covering the period of review from December 1, 2013, through November 30, 2014.² As identified in the Final Results, the calculated margins for Fine furniture and Dalian Penghong were 17.37 percent and 0.00 percent, respectively.³ Commerce assigned Fine Furniture's 17.37 percent margin to the companies eligible for a separate rate.⁴

¹ See Multilayered Wood Flooring From the People's Republic of China: Amended Final Determination of Sales at Less Than Fair Value and Antidumping Duty Order, 76 FR 76690 (December 8, 2011) (Order).

² See Multilayered Wood Flooring from the People's Republic of China: Final Results of Antidumping Duty Administrative Review; 2013-2014, 81 FR 46899 (July 19, 2016), as amended in Multilayered Wood Flooring from the People's Republic of China: Correction to the Final Results of Antidumping Duty Administrative Review, 81 FR 53120 (August 11, 2016) (collectively, Final Results).

³ See Final Results, 81 FR at 46901.

⁴ Id.

Fine Furniture and certain separate rate companies (collectively, plaintiffs) challenged Commerce's Final Results. The CIT sustained Commerce's Final Results,⁵ and select plaintiffs appealed to the U.S. Court of Appeals Federal Circuit (Federal Circuit).⁶ The Federal Circuit ordered that the case be stayed pending the outcome of Changzhou Hawd Flooring Co., v. United States, Appeal Nos. 2018-2335, -2337.⁷

⁵ See Fine Furniture (Shanghai) Limited, et al., v. United States, 353 F. Supp. 3d 1323 (CIT 2018).

⁶ See Fine Furniture (Shanghai) Limited, et al. v. United States, Appeal Nos. 2019-1499, -1500, -1501, -1502, -1503 (Fine Furniture Federal Circuit).

⁷ Id., ECF No. 40 (March 28, 2019).

Following the Federal Circuit's final opinion in Changzhou Hawd that held that Fine Furniture was excluded from the Order,⁸ the Federal Circuit lifted the stay of the appeal of the Final Results and remanded the case to the CIT to oversee Commerce's recalculation of the margin for the companies eligible for a separate rate.⁹ Commerce then requested a voluntary remand from the CIT to recalculate the margin to be applied to the separate rate companies, given Fine Furnitures's exclusion from the Order, and the CIT granted Commerce's request.¹⁰

⁸ See Changzhou Hawd Flooring Co., Ltd. v. United States, 947 F.3d 781, 793-94 (Fed. Cir. 2020) (Changzhou Hawd).

⁹ See Fine Furniture Federal Circuit, ECF No. 56 (August 4, 2020).

¹⁰ See Fine Furniture (Shanghai) Limited, et al., v. United States, Consol. Court No. 16-00145 (August 25, 2020).

On September 23, 2020, Commerce issued its Remand Results, in which Commerce recalculated the rate applicable to the plaintiff separate rate respondents and assigned the remaining mandatory respondent Dalian Penghong's weighted-average dumping margin of 0.00 percent to the respondents not selected for individual examination that were granted a separate rate in the Final Results and were party to the litigation.¹¹ On November 27, 2020, after obtaining leave from the CIT, Commerce issued its Corrected Remand Results, correcting several clerical errors made in its Remand Results.¹²

¹¹ See Final Results of Redetermination Pursuant to Court Order at 4 (September 23, 2020) (Remand Results).

¹² See Final Results of Redetermination Pursuant to Court Order (November 27, 2020) (Corrected Remand Results).

On March 3, 2021, the CIT sustained Commerce's Corrected Remand Results.¹³

¹³ See Fine Furniture (Shanghai) Limited, et al., v. United States, Consol. Court No. 16-00145, Slip Op. 21-27.

Timken Notice

In its decision in Timken,¹⁴ as clarified by Diamond Sawblades,¹⁵ the Federal Circuit held that, pursuant to section 516A(e) of the Tariff Act of 1930, as amended (the Act), Commerce must publish a notice of a court decision that is not “in harmony” with a Commerce determination and must suspend liquidation of entries pending a “conclusive” court decision. The CIT's March 3, 2021, judgment constitutes a final decision of that court that is not in harmony with Commerce's Final Results. This notice is published in fulfillment of the publication requirements of Timken. Accordingly, Commerce will continue the suspension of liquidation of the subject merchandise pending the expiration of the period of appeal, or if appealed, pending a final and conclusive court decision.

¹⁴ See Timken Co. v. United States, 893 F.2d. 337 (Fed. Cir. 1990) (Timken).

¹⁵ See Diamond Sawblades Mfrs. Coalition v. United States, 626 F.3d. 1374 (Fed. Cir. 2010) (Diamond Sawblades).

Amended Final Results

Because there is now a final court decision with respect to this case, Commerce is amending its Final Results with to the rate applicable to separate rate plaintiff respondents. Based on the Corrected Remand Results, we find that the applicable margin is 0.00 percent to the separate rate companies listed below:

Exporter/producer 16 | Margin (percent)
A&W (Shanghai) Woods Co., Ltd. | 0.00
Anhui Longhua Bamboo Product Co., Ltd. | 0.00
Baishan Huafeng Wooden Product Co., Ltd. | 0.00
Benxi Wood Company. | 0.00
Changzhou Hawd Flooring Co., Ltd. | 0.00
Dalian Dajen Wood Co., Ltd. | 0.00
Dalian Huilong Wooden Products Co., Ltd. | 0.00
Dalian Kemian Wood Industry Co., Ltd. | 0.00
Dalian Qianqiu Wooden Product Co., Ltd. | 0.00
Dongtai Fuan Universal Dynamics, LLC | 0.00
Dunhua City Dexin Wood Industry Co., Ltd. | 0.00
Dunhua City Hongyuan Wood Industry Co., Ltd. | 0.00
Dunhua City Wanrong Wood Industry Co. Ltd. | 0.00
Fusong Jinlong Wooden Group Co., Ltd. | 0.00
Fusong Jinqiu Wooden Product Co., Ltd. | 0.00
Fusong Qianqiu Wooden Product Co., Ltd. | 0.00
Guangdong Yihua Timber Industry Co., Ltd. | 0.00
Guangzhou Panyu Kangda Board Co., Ltd. | 0.00
Hailin LinJing Wooden Products Ltd. | 0.00
Hangzhou Hanje Tec Co., Ltd. | 0.00
Huzhou Chenghang Wood Co., Ltd. | 0.00
Jiafeng Wood (Suzhou) Co., Ltd. | 0.00
Jiangsu Senmao Bamboo and Wood Industry Co., Ltd. | 0.00
Jiangsu Simba Flooring Co., Ltd. | 0.00
Jiashan HuiJiaLe Decoration Material Co., Ltd. | 0.00
Jiaxing Hengtong Wood Co., Ltd. | 0.00
Jilin Forest Industry Jinqiao Flooring Group Co., Ltd. | 0.00
Karly Wood Product Limited. | 0.00
Kemian Wood Industry (Kunshan) Co., Ltd. | 0.00
Linyi Youyou Wood Co., Ltd. | 0.00
Mudanjiang Bosen Wood Industry Co., Ltd. | 0.00
Nakahiro Jyou Sei Furniture (Dalian) Co., Ltd. | 0.00
Pinge Timber Manufacturing (Zhejiang) Co., Ltd. | 0.00
Shanghai Lairunde Wood Co., Ltd. | 0.00
Shenyang Haobainian Wooden Co., Ltd. | 0.00
Sino-Maple (Jiangsu) Co., Ltd. | 0.00
Suzhou Dongda Wood Co., Ltd. | 0.00
Xiamen Yung De Ornament Co., Ltd. | 0.00
Yingyi-Nature (Kunshan) Wood Industry Co., Ltd. | 0.00
Zhejiang Biyork Wood Co., Ltd. | 0.00
Zhejiang Dadongwu GreenHome Wood Co., Ltd. | 0.00
Zhejiang Shuimojiangnan New Material Technology Co., Ltd. | 0.00

Liquidation of Suspended Entries

In the event that the CIT's ruling is not appealed or, if appealed, is upheld by a final and conclusive court decision, Commerce will issue appropriate instructions to U.S. Customs and Border Protection (CBP) liquidating entries exported from the companies above during the period December 1, 2013, through November 30, 2014, at the appropriate rate.

¹⁶ Imports of subject merchandise from the following are excluded: produced and exported by Fine Furniture and Double F Limited; produced and exported by Armstrong Wood Products (Kunshan) Co., Ltd. (Armstrong); and produced and exported by Dunhua City Jisen Wood Industry Co., Ltd. (Dunhua City Jisen).

On April 10, 2019, for Armstrong, and on August 11, 2020, for Dunhua City Jisen and Fine Furniture, pursuant to court order lifting the injunctions, Commerce issued liquidation instructions to CBP instructing CBP to liquidate entries for the December 1, 2013, through November 30, 2014 period of review without regard to duties given these companies' exclusion from the Order.

Cash Deposit Requirements

Because there have been subsequent administrative reviews for separate rate respondents, the cash deposit rate for these companies will remain the rate established in the most recently completed administrative review.¹⁷

¹⁷ See Multilayered Wood Flooring from the People's Republic of China: Final Results of Antidumping Duty Administrative Review and New Shipper Review and Final Determination of No Shipments; 2017-2018, 85 FR 78118 (December 3, 2020); see also Multilayered Wood Flooring From the People's Republic of China: Final Results of Antidumping Duty Administrative Review, Final Determination of No Shipments, and Partial Rescission; 2015-2016, 83 FR 35461 (July 26, 2018), as amended in Multilayered Wood Flooring From the People's Republic of China: Correction to the Final Results of Antidumping Duty Administrative Review; 2015-2016, 83 FR 45418 (September 7, 2018).

Notification to Interested Parties

This notice is issued and published in accordance with sections 516A(e)(1), 751(a)(1), and 777(i)(1) of the Act.

Dated: March 15, 2021.
Ryan Majerus,
Deputy Assistant Secretary for Policy and Negotiations.

[FR Doc. 2021-05756 Filed 3-17-21; 8:45 am]

BILLING CODE 3510-DS-P